STATE JUSTICE INSTITUTE

Grant Guideline; Notice

AGENCY: State Justice Institute.

ACTION: Grant Guideline for Fiscal Year (FY) 2026.

SUMMARY: This guideline sets forth the administrative, programmatic, and financial requirements attendant to FY 2026 State Justice Institute grants.

DATES: October 7, 2025.

ADDRESSES: State Justice Institute, 12700 Fair Lakes Circle, Suite 340, Fairfax, VA 22033.

FOR FURTHER INFORMATION CONTACT: Jonathan Mattiello, Executive Director, State Justice Institute, 703-660-4979, jonathan.mattiello@sji.gov.

SUPPLEMENTARY INFORMATION: Pursuant to the State Justice Institute Act of 1984 (42 U.S.C. 10701 et seq.), the State Justice Institute is authorized to award grants, cooperative agreements, and contracts to state and local courts, nonprofit organizations, and others for the purpose of improving the quality of justice in the state courts of the United States.

The following Grant Guideline is adopted by the State Justice Institute for FY 2026.

Table of Contents

I. Eligibility

II. Grant Application Deadlines

III. The Mission of the State Justice Institute

IV. Grant Types

V. Application and Submission Information

VI. How To Apply

VII. Post-Award Reporting Requirements

VIII. Compliance Requirements

IX. Financial Requirements

X. Grant Adjustments

I. Eligibility

Pursuant to the State Justice Institute Act of 1984 (42 U.S.C. 10701 et seq.), the State Justice Institute (SJI) is authorized to award grants, cooperative agreements, and contracts to state and local courts, national nonprofit organizations, and others for the purpose of improving the quality of justice in the state courts of the United States.

SJI is authorized by Congress to award grants, cooperative agreements, and contracts to the following entities and types of organizations:

• State and local courts and their agencies (42 U.S.C. 10705(b)(1)(A)).

• National nonprofit organizations controlled by, operating in conjunction with, and serving the judicial branches of state governments (42 U.S.C. 10705(b)(1)(B)).

• National nonprofit organizations for the education and training of judges and support personnel of the judicial branch of state governments (42 U.S.C. 10705(b)(1)(C)). An applicant is considered a national education and training applicant under section 10705(b)(1)(C) if:

the principal purpose or activity of the applicant is to provide education and training to state and local judges and court personnel; and

the applicant demonstrates a record of substantial experience in the field of judicial education and training.

• Other eligible grant recipients (42 U.S.C. 10705(b)(2)(A) through (D)).

Provided that the objectives of the project can be served better, SJI is also authorized to make awards to:

○ Nonprofit organizations with expertise in judicial administration

○ Institutions of higher education

○ Individuals, partnerships, firms, corporations (for-profit organizations must waive their fees)

○ Private agencies with expertise in judicial administration

SJI may also make awards to state or local agencies and institutions other than courts for services that cannot be adequately provided through nongovernmental arrangements (42 U.S.C. 10705(b)(3)).

SJI is prohibited from awarding grants to federal, tribal, and international courts.

II. Grant Application Deadlines

The SJI Board of Directors makes awards on a federal fiscal year quarterly basis. Applications may be submitted at any time but will be considered for award based only on the timetable below.

Table 1—Application Deadlines by Federal Fiscal Year Quarter
Federal fiscal year quarter | Application due date
1 | November 1.
2 | February 1.
3 | May 1.
4 | August 1.

To be considered timely, an application must be submitted by the application deadline noted above. Applicants must use the SJI Grants Management System (GMS) to submit all applications and post-award documents. The SJI GMS is accessible at https://gms.sji.gov. SJI urges applicants to submit applications at least 72 hours prior to the application due date to allow time for the applicant to receive an application acceptance message and to correct in a timely fashion any problems that may arise, such as missing or incomplete forms.

Questions related to the SJI Grant Program or the SJI GMS should be directed to contact@sji.gov.

III. The Mission of the State Justice Institute

The State Justice Institute Authorization Act of 1984 (42 U.S.C. 10701 et seq.) established SJI to improve the administration of justice in the state courts of the United States. Incorporated in the state of Virginia as a private, nonprofit corporation, SJI is charged, by statute, with the responsibility to:

• direct a national program of financial assistance designed to ensure that each citizen of the United States is provided ready access to a fair and effective system of justice;

• foster coordination and cooperation with the federal judiciary;

• promote recognition of the importance of the separation of powers doctrine to an independent judiciary; and

• encourage education for judges and support personnel of state court systems through national and state organizations.

To accomplish these broad objectives, SJI is authorized to provide funding to state courts, national organizations that support and are supported by state courts, national judicial education organizations, and other organizations that can assist in improving the quality of justice in the state courts.

Through the award of grants, contracts, and cooperative agreements, SJI is authorized to perform the following activities:

• support technical assistance, demonstrations, special projects, research, and training to improve the administration of justice in the state courts;

• provide for the preparation, publication, and dissemination of information regarding State judicial systems;

• participate in joint projects with Federal agencies and other private grantors;

• evaluate or provide for the evaluation of programs and projects to determine their impact upon the quality of criminal, civil, and juvenile justice and the extent to which they have contributed to improving the quality of justice in the state courts;

• encourage and assist in furthering judicial education; and

• encourage, assist, and serve in a consulting capacity state and local courts in the development, maintenance, and coordination of criminal, civil, and juvenile justice programs and services.

SJI is supervised by a board of directors appointed by the U.S. President, with the advice and consent of the U.S. Senate. The SJI Board of Directors is statutorily composed of six judges; a State court administrator; and four members of the public, no more than two of the same political party. Additional information about SJI, including a list of members of the SJI Board of Directors, is available at https://www.sji.gov.

a. Priority Investment Areas

The SJI Board of Directors has established Priority Investment Areas for grant funding. SJI will allocate significant financial resources through grant-making for these Priority Investment Areas. The Priority Investment Areas are applicable to all grant types. SJI strongly encourages potential grant applicants to consider projects addressing one or more of these Priority Investment Areas and to integrate the following factors into each proposed project:

• evidence-based, data-driven decision-making;

• cross-sector collaboration;

• systemic approaches (as opposed to standalone programs);

• institutionalization of new court processes and procedures;

• ease of replication; and

• sustainability.

For FY 2026, the Priority Investment Areas are listed below in no specific order.

1. Opioids and Other Dangerous Drugs and Behavioral Health Responses

• Opioids and Behavioral Health Court Responses—Research indicates that justice-involved persons have significantly greater proportions of mental, substance use, and co-occurring disorders than are found in the public. SJI supports cross-sector collaboration and information sharing that emphasizes policies and practices designed to improve court responses to justice-involved persons with behavioral health and other co-occurring needs.

• Trauma-Informed Approaches—Judges, court staff, system stakeholders, and court-involved persons (e.g., defendants, respondents, and victims) alike may be impacted by prior trauma. This is particularly, but not exclusively, true for those with mental illness and/or substance use disorders. SJI supports trauma-informed training, policies, and practices in all aspects of the judicial process.

2. Promoting Access to Justice and Procedural Fairness

• Procedural Fairness—A fundamental role of courts is to ensure fair processes and just outcomes for litigants. SJI promotes the integration of research-based procedural fairness principles, policies, and practices into state court operations to increase public trust and confidence in the court system, reduce recidivism, and increase compliance with court orders.

• Self-Represented Litigation—SJI promotes court-based solutions to address increases in self-represented litigants; helps make courts more user-friendly by simplifying court forms; provides one-on-one assistance; develops guides, handbooks, and instructions on how to proceed; develops court-based self-help centers; and uses internet technologies to increase access. These projects are improving outcomes for litigants and saving valuable court resources.

3. Protecting Victims, Underserved, and Vulnerable Populations

• Human Trafficking—SJI addresses the impact of federal and state human-trafficking laws on the state courts and the challenges faced by state courts in dealing with cases involving trafficking victims and their families, including victims who are U.S. citizens. These efforts are intended to empower state courts to identify victims, link them with vital services, and hold traffickers accountable.

• Rural Justice—Rural areas and their justice systems routinely have fewer resources and more barriers—such as unavailability of services, lack of transportation, and smaller workforces—than their urban counterparts. Programs and practices that are effective in urban areas are often inappropriate and/or lack supported research for implementation in rural areas. SJI supports rural courts by identifying promising and best practices and promoting resources, education, and training opportunities that are uniquely designed for rural courts and court users.

• Guardianship, Conservatorship, and Elder Issues—SJI assists courts in improving court oversight of guardians and conservators for the elderly and incapacitated adults through visitor programs, electronic reporting, and training.

4. Advancing Justice Reform

• Criminal Justice Reform—SJI assists state courts in promoting offender accountability and oversight; fosters transparency, governance, and structural reforms that promote access to justice; and implements innovative diversion and reentry programs that serve to improve outcomes for justice-involved persons and reduce the impact of the costs of the justice system.

• Juvenile Justice Reform—SJI supports innovative projects that advance best practices in handling dependency and delinquency cases, promote effective court oversight of juveniles in the justice system, address the impact of trauma on juvenile behavior, assist the courts in identification of appropriate provision of services for juveniles, and address juvenile reentry.

• Family and Civil Justice Reform—SJI promotes court-based solutions for the myriad types of civil cases, such as domestic relations, housing, employment, and debt collection, which are overwhelming court dockets.

5. Transforming Courts

• Courthouse and Public Safety—In the current climate of increasing threats and acts of violence against courthouses across the nation, state and local courts are seeking new and innovative ways to enhance the safety of courthouses. SJI has long recognized the need to assist state and local courts in improving the safety of the public, court staff, and judges in court facilities.

• Technology—Courts must integrate technological advances into daily judicial processes and proceedings. SJI supports projects that institutionalize innovative technology that has successfully advanced the use of electronic filing and payment systems, online dispute resolution, remote work, and virtual court proceedings. SJI promotes projects that streamline case filing and management processes, thereby reducing time and costs to litigants and the courts; provide online access to courts to litigants so that disputes can be resolved more efficiently; and make structural changes to court services that enable them to evolve into an online environment. Additionally, SJI supports the examination of potential integration of Artificial Intelligence (AI) into court processes, including identification of positive outcomes and potential limitations of AI.

• Cybersecurity—Courts must also be prepared for cyberattacks on court systems, such as denial of service and ransomware attacks on court case management systems, websites, and other critical information technology infrastructure. SJI supports projects that assist courts in preparing for and responding to these attacks and shares lessons learned to courts across the United States.

• Emergency Response and Recovery—Courts must be prepared for natural disasters and public health emergencies and institutionalize the most effective and efficient practices and processes that evolve during response and recovery. SJI supports projects that look to the future of judicial service delivery by identifying and replicating innovations and alternate means of conducting court business due to public health emergencies, such as pandemics and natural disasters like hurricanes, floods, earthquakes, and wildfires.

• Strategic Planning—Courts must rely on a deliberate process to determine organizational values, mission, vision, goals, and objectives. SJI promotes structured planning processes and organizational assessments to assist courts in setting priorities, allocating resources, and identifying areas for ongoing improvements in efficiency and effectiveness. Strategic planning includes elements of court governance, data collection, management, analysis, sharing, and sustainable court governance models that drive decision-making. Strategic plans and outcomes must be communicated to judges, court staff, justice partners, and the public.

• Workforce Development—State courts require a workforce that is adaptable to public demands for services. SJI supports projects that focus on the tools needed to enable judges, court managers, and staff to be innovative, forward-thinking court leaders.

IV. Grant Types

SJI supports five types of grants: Project, Technical Assistance (TA), Curriculum Adaptation and Training (CAT), Strategic Initiatives Grants (SIG) Program, and the Education Support Program (ESP). A brief description of each type of grant is below.

a. Project Grant

Project grants are intended to support innovative education and training, research and evaluation, demonstration, and TA projects that can improve the administration of justice in state courts locally or nationwide. State court and national nonprofit applicants may request up to $300,000 for 36 months. Local court applicants may request up to $200,000 for 24 months. Examples of expenses not covered by project grants include the salaries or benefits of full- or part-time court employees. Funding may not be used for the ordinary, routine operations of court systems.

All applicants for project grants must contribute a cash match greater than or equal to the SJI award amount. This means that grant awards by SJI must be matched at least dollar for dollar by grant applicants. For example, an applicant seeking a $300,000 Project Grant must provide a cash match of at least $300,000. Applicants may contribute the required cash match directly or in cooperation with third parties. Funding from other federal departments or agencies may not be used for a cash match.

b. TA Grant

TA grants are intended to provide state or local courts—or regional court associations—with sufficient support to obtain expert assistance to diagnose a problem, develop a response to that problem, and implement any needed changes. TA grants may not exceed $75,000 or 12 months in duration. In calculating project duration, applicants are cautioned to fully consider the time required to issue a request for proposals, negotiate a contract with the selected provider, and execute the project. Funds may not be used for salaries or benefits of full- or part-time court employees.

Applicants for TA grants are required to contribute a total match (cash and in-kind) of no less than 50 percent of the SJI award amount, of which 20 percent must be cash. For example, an applicant seeking a $75,000 TA Grant must provide a $37,500 match, of which up to $30,000 can be in-kind and not less than $7,500 must be cash. Funding from other federal departments and agencies may not be used for a cash match.

c. CAT Grant

CAT grants are intended to: (1) enable courts or national court associations to modify and adapt model curricula, course modules, or conference programs to meet states' or local jurisdictions' educational needs; train instructors to present portions or all of the curricula; and pilot-test them to determine their appropriateness, quality, and effectiveness; or (2) conduct judicial branch education and training programs, led by either expert or in-house personnel, designed to prepare judges and court personnel for innovations, reforms, and/or new technologies recently adopted by grantee courts. CAT grants may not exceed $40,000 or 12 months in duration. Examples of expenses not covered by CAT grants include the salaries or benefits of full- or part-time court employees.

Applicants for CAT grants are required to contribute a total match (cash and in-kind) of not less than 50 percent of the SJI award amount, of which 20 percent must be cash. For example, an applicant seeking a $40,000 CAT grant must provide a $20,000 match, of which up to $16,000 can be in-kind and not less than $4,000 must be cash. Funding from other federal departments and agencies may not be used for a cash match.

d. SIG Program

The SIG Program provides SJI with the flexibility to address national court issues as they occur and develop solutions to those problems. This is an innovative approach where SJI uses its expertise and the expertise and knowledge of its grantees to address key issues facing state courts across the United States.

The funding is used for grants or contractual services and is handled at the discretion of the SJI Board of Directors and staff. SJI requires the submission of a concept paper prior to the full application process. Only applicants that submit an approved concept paper will be invited to submit a full application for funding. Potential applicants are strongly encouraged to contact SJI prior to submitting a concept paper for guidance on this initial step.

e. ESP for Judges and Court Managers

The ESP is intended to enhance the skills, knowledge, and abilities of state court judges and court managers by enabling them to attend out-of-state or enroll in online educational and training programs sponsored by national and state providers they could not otherwise attend or take online because of limited state, local, and personal budgets. The program covers only the cost of tuition up to a maximum of $1,000 per course.

The ESP is administered by the National Judicial College (NJC) and the National Center for State Courts (NCSC)/Institute for Court Management (ICM), in partnership with SJI. For NJC courses, register online at https://www.judges.org/courses. For ICM courses, register online at https://www.ncsc.org/courses. During the respective registration processes, each website will ask whether a scholarship is needed to participate. Follow the online instructions to request tuition assistance.

V. Application and Submission Information

This section describes in detail what an application must include. An applicant should anticipate that if he or she fails to submit an application that contains all the specified project components, it may negatively affect the review of the application. Applicants must use the SJI GMS to submit all applications and post-award documents. The SJI GMS is accessible at https://gms.sji.gov.

a. Application Components

Applicants for SJI grants must submit the following forms and/or documents via the SJI GMS:

1. Application Form

The application form requests basic information regarding the proposed project, the applicant, and the total amount of funding requested from SJI. It also requires the signature of an individual authorized to certify on behalf of the applicant that the information contained in the application is true and complete; submission of the application has been authorized by the applicant; and, if funding for the proposed project is approved, the applicant will comply with the requirements and conditions of the award, including the assurances set forth in section V.A.4, Assurances, of this guideline.

2. Certificate of State Approval

An application from a state or local court must include a copy of the Certificate of State Approval signed by the state's chief justice or state court administrator. The signature denotes that the proposed project has been approved by the state's highest court or the agency or council it has designated. Further, the signature denotes, if applicable, a cash-match reduction has been requested, and that if SJI approves funding for the project, the court or the specified designee will receive, administer, and be accountable for the awarded funds.

3. Budget Form

Applicants must provide a detailed budget and a budget narrative providing an explanation of the basis for the amounts in each budget category. If funds from other sources are required to conduct the project, either as a match or to support other aspects of the project, the source, current status of the request, and anticipated decision date must be provided.

4. Assurances

The Assurances form lists the statutory, regulatory, and policy requirements with which recipients of SJI funds must comply.

5. Disclosure of Lobbying Activities

Applicants other than units of state or local government are required to disclose whether they, or another entity that is part of the same organization as the applicant, have advocated a position before Congress on any issue, and to identify the specific subjects of their lobbying efforts.

6. Project Abstract

The abstract must highlight the purposes, goals, methods, and anticipated benefits of the proposed project. It must not exceed one single-spaced page and must be uploaded on the “Attachments” tab in the SJI GMS.

7. Program Narrative

The program narrative for an application may not exceed 25 double-spaced pages on 8½- by 11-inch paper with 1-inch margins, using a standard 12-point font. The pages must be numbered. This page limit does not include the forms, the abstract, the budget narrative, or any additional attachments. The program narrative must address the following, noting any specific areas to address by grant type:

i. Statement of Need. Applicants must explain the critical need they are facing and how SJI funds will enable them to meet this critical need. The applicants must also explain why state or local resources are not sufficient to fully support the costs of the project.

Applicants must provide a verified source for the data (i.e., federal, state, and local databases) that supports the problem statement. The discussion must include specific references to the relevant literature and to experience in the field. SJI continues to make all grant reports and most grant products available online through the NCSC Library and Digital Archive. Applicants are required to conduct a search of the NCSC Library and Digital Archive on the topic areas they are addressing. This search must include SJI-funded grants and previous projects not supported by SJI. Searches for SJI grant reports and other state court resources begin with the NCSC Library section. Applicants must discuss the results of their research, how they plan to incorporate the previous work into their proposed project, and if the project will differ from prior work.

ii. Project Grants. If the project is to be conducted in any specific location(s), applicants must discuss the particular needs of the project site(s) the project would address and why existing programs, procedures, services, or other resources do not meet those needs.

If the project is not site-specific, the applicants must discuss the problems that the proposed project would address and why existing programs, procedures, services, or other resources cannot adequately resolve those problems. In addition, applicants must describe how, if applicable, the project will be sustained in the future through existing resources.

iii. TA Grants. Applicants must explain why state or local resources are unable to fully support the modification and presentation of the model curriculum. The applicants must also describe the potential for replicating or integrating the adapted curriculum in the future using state or local funds once it has been successfully adapted and tested. In addition, applicants must describe how, if applicable, the project will be sustained in the future through existing resources.

iv. CAT Grants (curriculum adaptation). Applicants must explain why state or local resources are unable to fully support the modification and presentation of the model curriculum. The applicants must also describe the potential for replicating or integrating the adapted curriculum in the future using state or local funds once it has been successfully adapted and tested.

v. CAT Grants (training). Applicants must describe the court reform or initiative prompting the need for training. Applicants must also discuss how the proposed training will help them implement planned changes at the court and why state or local resources are not sufficient to fully support the costs of the required training.

vi. SIGs. Applicants must detail the origin of the project (i.e., requested by SJI or a request to SJI) and provide a detailed description of the issue of national impact the proposed project will address, including any evaluations, reports, resolutions, or other data to support the need statement.

b. Project Description and Objectives

The applicants must include a clear, concise statement of what the proposed project is intended to accomplish and how those objectives will be met. Applicants must delineate the tasks to be performed in achieving the project objectives and the methods to be used for accomplishing each task.

Applicants must describe how the proposed project addresses one or more Priority Investment Areas. If the project does not address one or more Priority Investment Areas, the applicants must provide an explanation as to the reason.

1. Application Details by Project Type

i. Project Grants. The applicants must include detailed descriptions of tasks, methods, and evaluations. For example:

• Research and evaluation projects. The applicants must include the data sources, data collection strategies, variables to be examined, and analytic procedures to be used for conducting the research or evaluation and ensuring the validity and general applicability of the results. For projects involving human subjects, the discussion of methods must address the procedures for obtaining respondents' informed consent, ensuring the respondents' privacy and freedom from risk or harm, and protecting others who are not the subjects of research but would be affected by the research. If the potential exists for risk or harm to human subjects, a discussion must be included that explains the value of the proposed research and the methods to be used to minimize or eliminate such risk. Refer to section VIII.R.3, Human Subject Protection, of this guideline for additional information.

• Education and training projects. The applicants must include the adult education techniques to be used in designing and presenting the program, including the teaching and learning objectives of the educational design, the teaching methods to be used, and the opportunities for structured interaction among the participants. The opportunities applicants must include are: how faculty would be recruited, selected, and trained; the proposed number and length of the conferences, courses, seminars, or workshops to be conducted and the estimated number of persons who would attend them; the materials to be provided and how they would be developed; and the cost to participants.

• Demonstration projects. The applicants must include the demonstration sites and the reasons they were selected or, if the sites have not been chosen, how they would be identified; how the applicants would obtain the cooperation of demonstration sites; and how the program or procedures would be implemented and monitored.

• TA projects. The applicants must explain the types of assistance that would be provided, the particular issues and problems for which assistance would be provided, the type of assistance determined, how suitable providers would be selected and briefed, and how reports would be reviewed.

ii. TA Grants. Applicants must identify which organization or individual will be hired to provide the assistance and how the consultant was selected. The applicants must describe the tasks the consultant will perform and how the tasks will be accomplished.

If a consultant has not yet been identified, the applicants must describe the procedures and criteria that will be used to select the consultant (applicants are expected to follow their jurisdictions' normal procedures for procuring consultant services).

If the consultant has been identified, the applicants must provide a letter from that individual or organization documenting interest in and availability for the project, as well as the consultant's ability to complete the assignment within the proposed timeframe and for the proposed cost. The consultant must agree to submit a detailed written report to the court and SJI upon completion of the TA. Applicants must then describe the steps that have been or will be taken to facilitate implementation of the consultant's recommendations upon completion of the technical assistance.

The applicants must then address the following questions:

• What specific tasks will the consultant and court staff undertake?

• What is the schedule for completion of each required task and the entire project?

• How will the applicant oversee the project and provide guidance to the consultant, and who at the court or regional court association would be responsible for coordinating all project tasks and submitting Quarterly Progress and Financial Status Reports?

iii. CAT Grants (curriculum adaptation). The applicants must provide the title of the curriculum that will be adapted and identify the entity that originally developed the curriculum. Applicants must allow at least 90 days between the potential award date and the date of the proposed program to allow sufficient time for planning. This period of time should be reflected in the project timeline. The applicants must also address the following questions:

• Why is this education program needed at the present time?

• What are the project's goals?

• What are the learning objectives of the adapted curriculum?

• What program components would be implemented, and what types of modifications, if any, are anticipated in length, format, learning objectives, teaching methods, or content?

• Who would be responsible for adapting the model curriculum?

• Who would the participants be, how many would there be, how would they be recruited, and from where would they come (e.g., from a single local jurisdiction, from across the state, from a multistate region, from across the nation, etc.)?

The applicants must also provide the proposed timeline, including the project start and end dates, the date(s) the judicial branch education program will be presented, and the process that will be used to modify and present the program. Applicants must also identify who will serve as faculty, and how they will be selected, in addition to the measures taken to facilitate subsequent presentations of the program.

iv. CAT Grants (training). The applicants must identify the tasks the trainer will be expected to perform, which organization or individual will be hired, and, if in-house personnel are not the trainer, how the trainer will be selected.

If a trainer has not yet been identified, the applicants must describe the procedures and criteria that will be used to select the trainer.

If the trainer has been identified, the applicants must provide a letter from that individual or organization documenting interest in and availability for the project, as well as the trainer's ability to complete the assignment within the proposed timeframe and for the proposed cost.

In addition, the applicants must address the following questions:

• What specific tasks would the trainer and court staff or regional court association members undertake?

• What presentation methods will be used?

• What is the schedule for completion of each required task and the entire project?

• How will the applicant oversee the project and provide guidance to the trainer, and who at the court or affiliated with the regional court association would be responsible for coordinating all project tasks and submitting Quarterly Progress and Financial Status Reports?

• The applicant must explain what steps have been or will be taken to coordinate the implementation of the training. For example, if the support or cooperation of specific court, regional court association officials, committees, other agencies, funding bodies, organizations, or a court other than the applicant will be needed to adopt the reform and initiate the proposed training, how will the applicant secure their involvement in the development and implementation of the training?

v. SIGs. The applicants should expand upon the project description and objectives described in the approved concept paper. Any and all feedback and questions submitted by the SJI Board of Directors and staff during the review of the concept paper should also be incorporated into the project design.

2. Dissemination Plan

The application must: (1) explain how and to whom the products would be disseminated; describe how they would benefit the state courts, including how they could be used by judges and court personnel; (2) identify development, production, and dissemination costs covered by the project budget; and (3) present the basis on which products and services developed or provided under the grant would be offered to the court community and the public at large (i.e., whether products would be distributed at no cost to recipients, or if costs are involved, the reason for charging recipients and the estimated price of the product). Ordinarily, applicants must schedule all product preparation and distribution activities within the project period.

The type of product to be prepared depends on the nature of the project. For example, in most instances, the products of a research, evaluation, or demonstration project must include: (1) an article summarizing the project findings that is publishable in a journal serving the courts community nationally, (2) an executive summary that would be disseminated to the project's primary audience, or (3) both an article and executive summary. Applicants proposing to conduct empirical research or evaluation projects with national import must describe how they would make their data available for secondary analysis after the grant period.

The curricula and other products developed through education and training projects must be designed for use by others and again by the original participants in the course of their duties. Applicants proposing to develop web-based products must provide, for sending, a notice and description of the document (i.e., a written report with a reference to the website) to the appropriate audiences to alert them to the availability of the website or electronic product.

Applicants must submit a final draft of all written grant products to SJI for review and approval at least 30 days before the products are submitted for publication or reproduction. Applicants must provide multimedia products for SJI review at the treatment, script, rough-cut, and final stages of development, or their equivalents. No grant funds may be obligated for publication or reproduction of a final grant product without the written approval of SJI. Project products should be submitted to SJI electronically in HTML or PDF format.

Applicants must also include in all project products a prominent acknowledgment that SJI provided support and a disclaimer paragraph such as, “This [document, film, videotape, etc.] was developed under [grant/cooperative agreement] number SJI-[insert number] from the State Justice Institute. The points of view expressed are those of the [author(s), filmmaker(s), etc.] and do not necessarily represent the official position or policies of the State Justice Institute.” The “SJI” logo must appear on the front cover of a written product or in the opening frames of a website or other multimedia products, unless SJI approves another placement. The SJI logo can be downloaded from SJI's website (https://www.sji.gov) at the bottom of the “Grants” page.

3. Staff Capability and Organizational Capacity

An applicant that is not a state or local court and has not received a grant from SJI within the past 3 years must indicate whether it is either: (1) a national nonprofit organization controlled by, operating in conjunction with, and serving the judicial branches of state governments; or (2) a national nonprofit organization for the education and training of state court judges and support personnel. If the applicant is a nonjudicial unit of Federal, State, or local government, it must explain whether the proposed services could be adequately provided by nongovernmental entities.

Applicants that have not received a grant from SJI within the past 3 years must include a statement describing their capacity to administer grant funds, including the financial systems used to monitor project expenditures (and income, if any), a summary of their past experience in administering grants, and any resources or capabilities they have that would particularly assist in the successful completion of the project.

Unless requested otherwise, an applicant that has received a grant from SJI within the past 3 years must describe only the changes in its organizational capacity, tax status, or financial capability that may affect its capacity to administer a grant. If the applicant is a nonprofit organization (other than a university), it must also provide documentation of its 501(c)(3) tax-exempt status as determined by the Internal Revenue Service and a copy of a current certified audit report. For the purpose of this requirement, “current” means no earlier than 2 years prior to the present calendar year.

The applicant must include a summary of key staff members' and consultants' training and experience that qualify them to conduct and manage the proposed project. Resumes of identified staff should be attached to the application. If one or more key staff members and consultants are not known at the time of the application, a description of the criteria that would be used to select persons for these positions should be included. The applicant must also identify the person who would be responsible for managing and reporting on the financial aspects of the proposed project.

4. Evaluation

Projects must include an evaluation plan to determine whether the project has met its objectives. The evaluation must be designed to provide an objective and independent assessment of the effectiveness or usefulness of the training or services provided; the impact of the procedures, technology, or services tested; or the validity and applicability of the research conducted. The evaluation plan must be appropriate to the type of project proposed, considering the nature, scope, and magnitude of the project.

5. Sustainability

Describe how the project will be sustained after SJI assistance ends. The sustainability plan must describe how current collaborations and evaluations will be used to leverage ongoing resources. SJI encourages applicants to ensure sustainability by coordinating with local, state, and other federal resources.

c. Budget and Matching State Contribution

Applicants must complete a budget in the SJI GMS and upload a budget narrative. The budget narrative must provide the basis for all project-related costs and the sources of any match, as required. The budget narrative must thoroughly and clearly describe every category of expense listed. SJI expects proposed budgets to be complete, cost effective, and allowable (i.e., reasonable, allocable, and necessary for project activities).

1. Prohibited Uses of SJI Funds. To ensure that funds made available are used to supplement and improve the operation of state courts, rather than to support basic court services, funds shall not be used:

• To supplant state or local funds supporting a program or activity (e.g., paying the salary of court employees who would be performing their normal duties as part of the project or paying rent for space that is part of the court's normal operations).

• To construct court facilities or structures.

• Solely to purchase equipment.

Examples of basic court services include:

• Hiring of personnel;

• Purchase and/or maintenance of equipment;

• Purchase of software and/or licenses;

• Purchase of internet access or service;

• Supplies to support the day-to-day operations of courts.

The final determination of what constitutes basic court services is made by SJI and is not negotiable.

Meals and refreshments are not allowable costs.

Trinkets (e.g., items such as hats, mugs, portfolios, t-shirts, coins, gift bags, gift cards, etc.) may not be purchased with SJI grant funding.

2. Justification of Personnel Compensation. The applicants must set forth the amount of time the individuals who would staff the proposed project would devote, the annual salary of each of those persons, and the number of workdays per year used to calculate the amount of time or daily rates of those individuals. The applicants must explain any deviations from current rates or established written organizational policies. No grant funds or cash match may be used to pay the salary and related costs for a current or new employee of a court or other unit of government because such funds would constitute a supplantation of state or local funds in violation of 42 U.S.C. 10706(d)(1); this includes new employees hired specifically for the project. The salary and any related costs for a current or new employee of a court or other unit of government may only be accepted as an in-kind match.

3. Fringe Benefit Computation. For nongovernmental entities, applicants must provide a description of the fringe benefits provided to employees. If percentages are used, the authority for such use should be presented, as well as a description of the elements included in the determination of the percentage rate.

4. Consultant/Contractual Services and Honoraria. The applicants must describe the tasks each consultant would perform, the estimated total amount to be paid to each consultant, the basis for compensation rates (e.g., the number of days multiplied by the daily consultant rates), and the method for selection. Prior written SJI approval is required for any consultant rate in excess of $800 per day; SJI funds may not be used to pay a consultant more than $1,100 per day. Honorarium payments must be justified in the same manner as consultant payments.

5. Travel. Transportation costs and per diem rates must comply with the policies of the applicant organization. If the applicant does not have an established travel policy, then travel rates must be consistent with those established by the Federal Government. The budget narrative must include an explanation of the rate used, including the components of the per diem rate and the basis for the estimated transportation expenses. The purpose of the travel must also be included in the narrative.

6. Equipment. Grant funds may be used to purchase only the equipment necessary to demonstrate a new technological application in a court or that is otherwise essential to accomplishing the objectives of the project. In other words, grant funds cannot be used strictly for the purpose of purchasing equipment. Equipment purchases to support basic court operations will not be approved. Applicants must describe the equipment to be purchased or leased and explain why the acquisition of that equipment is essential to accomplish the project's goals and objectives. The narrative must clearly identify which equipment is to be leased and which is to be purchased. The method of procurement must also be described.

7. Supplies. Applicants must provide a general description of the supplies necessary to accomplish the goals and objectives of the grant. In addition, the applicants must provide the basis for the amount requested for this expenditure category.

8. Construction. Construction expenses are prohibited.

9. Postage. Anticipated postage costs for project-related mailings, including distribution of the final product(s), should be described in the budget narrative. The cost of special mailings, such as for a survey or for announcing a workshop, should be distinguished from routine mailing costs. The bases for all postage estimates should be included in the budget narrative.

10. Printing/Photocopying. Anticipated costs for printing or photocopying project documents, reports, and publications must be included in the budget narrative, along with the bases used to calculate these estimates.

11. Indirect Costs. Indirect costs are only applicable to organizations that are not state courts or government agencies. Recoverable indirect costs are limited to no more than 75 percent of a grantee's direct personnel costs (i.e., salaries plus fringe benefits). Applicants must describe the indirect-cost rates applicable to the grant in detail. If costs often included within an indirect-cost rate are charged directly (e.g., a percentage of the time of senior managers to supervise project activities), the applicants should specify that these costs are not included within their approved indirect-cost rate. If an applicant has an indirect-cost rate or allocation plan approved by any federal granting agency, a copy of the approved rate agreement must be attached to the application.

12. Matching Requirements. SJI grants require a match, which is the portion of project costs not borne by SJI and includes both cash and in-kind matches as outlined in this paragraph. A cash match is the direct outlay of funds by the grantee or a third party to support the project. Other federal department and agency funding may not be used for a cash match. An in-kind match consists of contributions of time and/or services of current staff members, new employees, space, supplies, etc., that are made to the project by the grantee or others (e.g., advisory board members) working directly on the project. An in-kind match can also consist of that portion of the grantee's federally approved indirect-cost rate that exceeds the limit of permitted charges (75 percent of salaries and benefits).

The grantee is responsible for ensuring that the total amount of the match proposed is contributed. If a proposed contribution is not fully met, SJI may reduce the award amount accordingly, to maintain the ratio originally provided for in the award agreement. The match should be expended at the same rate as SJI funding.

i. Project Grants. Applicants for Project grants must contribute a cash match greater than or equal to the SJI award amount. This means that grant awards by SJI must be matched at least dollar for dollar by grant applicants. For example, an applicant seeking a $300,000 Project grant must provide a cash match of at least $300,000. Applicants may contribute the required cash match directly or in cooperation with third parties.

ii. TA Grants. Applicants for TA grants are required to contribute a total match (cash and in-kind) of no less than 50 percent of the SJI award amount, of which 20 percent must be cash. For example, an applicant seeking a $75,000 TA grant must provide a $37,500 match, of which up to $30,000 can be in-kind and not less than $7,500 must be cash.

iii. CAT Grants. Applicants for CAT grants are required to contribute a total match (cash and in-kind) of not less than 50 percent of the SJI award amount, of which 20 percent must be cash. For example, an applicant seeking a $40,000 CAT grant must provide a $20,000 match, of which up to $16,000 can be in-kind and not less than $4,000 must be cash. Funding from other federal departments and agencies may not be used for a cash match.

iv. SIGs. State and local courts and non-court units of government must provide a dollar-for-dollar cash match for SIG projects. Matching funds may not be required for SIG projects that are awarded to non-court or nongovernmental entities.

13. Letters of Support. Written assurances of support or cooperation should accompany the application letter if the support or cooperation of agencies, funding bodies, organizations, or courts other than the applicant would be needed in order for the consultant to perform the required tasks. Applicants may also submit memorandums of agreement or understanding, as appropriate.

14. Project Timeline. A project timeline detailing each project objective, activity, expected completion date, and responsible person or organization should be included. The plan should include the starting and completion date for each task; the time commitments to the project of key staff and their responsibilities regarding each project task; and the procedures that would ensure that all tasks are performed on time, within budget, and at the highest level of quality. In preparing the project timeline, applicants must make certain that all project activities, including publication or reproduction of project products and their initial dissemination, would occur within the proposed project period. The project timeline must also provide for the submission of Quarterly Progress and Financial Status Reports within 30 days after the close of each calendar quarter, as well as submission of all final closeout documents. The project timeline may be included in the program narrative or provided as a separate attachment.

15. Other Attachments. Resumes of key project staff may also be included. Additional background material should be attached only if it is essential to impart a clear understanding of the proposed project. Numerous and lengthy appendices are strongly discouraged.

d. Application Review Information

1. Selection Criteria. In addition to the criteria detailed below, SJI will consider whether the applicant is a state or local court, a national court support or education organization, a non-court unit of government, or other type of entity eligible to receive grants under SJI's enabling legislation; the availability of financial assistance from other sources for the project; the diversity of subject matter; geographic diversity; the level and nature of the match that would be provided; reasonableness of the proposed budget; the extent to which the proposed project would also benefit the federal courts or help state or local courts enforce federal constitutional and legislative requirements; and the level of appropriations available to SJI in the current year and the amount expected to be available in succeeding fiscal years, when determining which projects to support.

2. Project Grant Applications. Project grant applications will be rated based on the criteria set forth below:

• Soundness of the methodology.

• Demonstration of need for the project.

• Appropriateness of the proposed evaluation design.

• If applicable, the key findings and recommendations of the most recent evaluation and the proposed responses to those findings and recommendations.

• Applicant's management plan and organizational capabilities.

• Qualifications of the project's staff.

• Products and benefits resulting from the project, including the extent to which the project will have long-term benefits for state courts across the nation.

• Degree to which the findings, procedures, training, technology, or other results of the project can be transferred to other jurisdictions.

• Reasonableness of the proposed budget.

• Demonstration of cooperation and support of other agencies that may be affected by the project.

3. TA Grant Applications. TA grant applications will be rated based on the following criteria:

• Whether the assistance would address a critical need of the applicant.

• Soundness of the technical assistance approach to the problem.

• Qualifications of the consultant(s) to be hired or the specific criteria that will be used to select the consultant(s).

• Commitment of the court or association to act on the consultant's recommendations.

• Reasonableness of the proposed budget.

4. CAT Grant Applications. CAT grant applications will be rated based on the following criteria:

• Goals and objectives of the proposed project.

• How the training would address a critical need of the court or association.

• Need for outside funding to support the program.

• Soundness of the approach in achieving the project's educational or training objectives.

• Integration of distance learning and technology in project design and delivery.

• Qualifications of the trainer(s) to be hired or the specific criteria that will be used to select the trainer(s) (training project only).

• Likelihood of effective implementation and integration of the modified curriculum into the state or local jurisdiction's ongoing educational programming (curriculum adaptation project only).

• Commitment of the court or association to the training program (training project only).

• Expressions of interest by judges and/or court personnel, as demonstrated by letters of support.

5. SIG Applications. SIG applications will be rated based on the following criteria:

• Goals and objectives of the proposed project.

• Demonstration of need for the project.

• Degree to which the project addresses a current national court issue.

• Level of innovation in addressing the identified need.

• Potential impact on the court community.

• Qualifications of the consultant(s) engaged to manage the project.

6. Review Process. SJI reviews the application to make sure that the information presented is reasonable, understandable, measurable, and achievable, as well as consistent with this guideline. Applications must meet basic minimum requirements. Although specific requirements may vary by grant type, the following are common requirements applicable to all SJI grant applications:

• Must be submitted by an eligible type of applicant.

• Must request funding within funding constraints of each grant type (if applicable).

• Must be within statutorily allowable expenditures.

• Must include all required forms and documents.

• The SJI Board of Directors reviews all applications and makes final funding decisions. The decision to fund a project is solely that of the SJI Board of Directors.

7. Notification of SJI Board of Directors Decision. The Chairman of the Board signs grant awards on behalf of SJI. SJI will notify applicants regarding the SJI Board of Directors' decisions to award, defer, or deny their respective applications. If requested, SJI conveys the key issues and questions that arose during the review process. A decision by the SJI Board of Directors to deny an application may not be appealed, but it does not prohibit resubmission of a proposal in a subsequent funding cycle.

8. Response to Notification of Award. Grantees have 30 days from the date they were notified about their award to respond to any revisions requested by the SJI Board of Directors. If the requested revisions (or a reasonable schedule for submitting such revisions) have not been submitted to SJI within 30 days after notification, the award may be rescinded, and the application presented to the SJI Board of Directors for reconsideration. Special conditions, in the form of incentives or sanctions, may also be used in other situations.

VI. How To Apply

Applicants must use the SJI GMS to submit all applications and post-award documents. SJI urges applicants to submit applications at least 72 hours prior to the application due date in order to allow time for the applicant to receive an application acceptance message and to correct, in a timely fashion, any problems that may arise, such as missing or incomplete forms. Files must be in .doc, .docx, .xls, .xlsx, .pdf, .jpg, or .png format. Individual file size cannot exceed 5 MB.

a. Submission Steps

Applicants (except for ESP) must register with the SJI GMS to submit applications for funding consideration. Below are the basic steps for submission:

1. Access the SJI GMS and complete the information required to create an account.

2. If you already have an account, log in and create a new application.

3. Complete all required forms and upload all required documents:

• Application Form.

• Certificate of State Approval.

• Budget and Budget Narrative.

• Assurances.

• Disclosure of Lobbying Activities.

• Project Abstract.

• Program Narrative.

• Attachments.

Letters of Support.

Project Timeline.

Resumes.

Indirect-Cost Approval.

Other Attachments.

4. Certify and submit the application to SJI for review.

VII. Post-Award Reporting Requirements

All required reports and documents must be submitted via the SJI GMS.

a. Quarterly Reporting Requirements

Recipients of SJI funds must submit Quarterly Progress and Financial Status Reports within 30 days after the close of each calendar quarter (i.e., no later than January 30, April 30, July 30, and October 30).

1. Program Progress Reports. Program Progress Reports must include a narrative description of project activities during the calendar quarter; the relationship between those activities, the task schedule, and objectives set forth in the approved application or an approved adjustment thereto; any significant problem areas that have developed and how they will be resolved; and the activities scheduled during the next reporting period. Failure to comply with the requirements of this provision could result in the termination of a grantee's award.

2. Financial Reporting. A Financial Status Report is required from all grantees for each active quarter on a calendar-quarter basis. This report is due within 30 days after the close of the calendar quarter. It is designed to provide financial information relating to SJI funds, state and local matching shares, project income, and any other sources of funds for the project, as well as information on obligations and outlays.

b. Request for Reimbursement of Funds

Awardees will receive funds on a reimbursable basis via electronic funds transfer (EFT) basis. All requests for reimbursement must include a Unique Entity Identifier (UEI) as generated by the System for Reward Management (SAM) with an active registration. Upon receipt, review, and approval of a request for reimbursement by SJI, payment will be issued directly to the grantee or its designated fiscal agent. Requests for reimbursements, along with the instructions for their preparation are available in the SJI GMS.

1. Accounting System. Awardees are responsible for establishing and maintaining an adequate system of accounting and internal controls. Awardees are also responsible for ensuring an adequate system exists for each of their subgrantees and contractors. An acceptable and adequate accounting system:

• Properly accounts for receipt of funds under each grant awarded and the expenditure of funds for each grant by category of expenditure (including matching contributions and project income).

• Assures that expended funds are applied to the appropriate budget category included within the approved grant.

• Presents and classifies historical costs of the grant as required for budgetary and evaluation purposes.

• Provides cost and property controls to assure optimal use of grant funds.

• Is integrated with a system of internal controls adequate to safeguard the funds and assets covered, check the accuracy and reliability of the accounting data, promote operational efficiency, and assure conformance with any general or special conditions of the grant.

• Meets the prescribed requirements for periodic financial reporting of operations.

• Provides financial data for planning, control, measurement, and evaluation of direct and indirect costs.

c. Final Progress Report

The Final Progress Report must describe the project activities during the final calendar quarter of the project and the close-out period, including to whom project products have been disseminated; provide a summary of activities during the entire project; specify whether all the objectives set forth in the approved application or an approved adjustment have been met and, if any of the objectives have not been met, explain why not; and discuss what, if anything, could have been done differently that might have enhanced the impact of the project or improved its operation. In addition, grantees are required to submit electronic copies of the final products related to the project (e.g., reports, curriculum, etc.). These reporting requirements apply at the conclusion of every grant.

VIII. Compliance Requirements

a. Advocacy

No funds made available by SJI may be used to support or conduct training programs for the purpose of advocating particular nonjudicial public policies or encouraging nonjudicial political activities (42 U.S.C. 10706(b)).

b. Approval of Key Staff

If the qualifications of an employee or consultant assigned to a key project staff position are not adequately described in the application or if there is a change of a person assigned to such a position, the recipient must submit a description of the qualifications of the newly assigned person to SJI. Prior written approval of the qualifications of the new person assigned to a key staff position must be received from SJI before the salary or consulting fee of that person and associated costs may be paid or reimbursed from grant funds.

c. Audit

Recipients of SJI grants must provide for an annual fiscal audit, which includes an opinion on whether the financial statements of the grantee fairly present its financial position and its financial operations in accordance with generally accepted accounting principles. If requested, a copy of the audit report must be made available electronically to SJI.

d. Budget Revisions

Prior SJI approval is required for budget revisions among direct-cost categories that: (1) transfer grant funds to an unbudgeted cost category; or (2) individually or cumulatively exceed 5 percent of the approved original budget or the most recently approved revised budget. Refer to section X, Grant Adjustments, of this guideline for additional details about the process for modifying the project budget.

e. Conflict of Interest

Personnel and other officials connected with SJI-funded programs must adhere to the following requirements:

• Officials or employees of a recipient court or organization must not participate personally through decision, approval, disapproval, recommendation, the rendering of advice, investigation, or otherwise, in any proceeding, application, request for a ruling or other determination, contract, grant, cooperative agreement, claim, controversy, or other particular matter in which SJI funds are used, where, to their knowledge, they or their immediate family; partners; organization other than a public agency in which they are serving as officer, director, trustee, partner, or employee; or any person or organization with whom they are negotiating or have any arrangement concerning prospective employment have a financial interest.

• In the use of SJI project funds, an official or employee of a recipient court or organization must avoid any action that might result in or create the appearance of:

using an official position for private gain; or

adversely affecting the confidence of the public in the integrity of the SJI program.

• Requests for proposals (RFPs) or invitations for bids issued by a recipient of SJI funds or a subgrantee or subcontractor will provide notice to prospective bidders that the contractors who develop or draft specifications, requirements, statements of work, and/or RFPs for a proposed procurement will be excluded from bidding on or submitting a proposal to compete for the award of such procurement.

f. Inventions and Patents

If any patentable items, patent rights, processes, or inventions are produced during the course of SJI-sponsored work, such fact must be promptly and fully reported to SJI. Unless there is a prior agreement between the grantee and SJI on the disposition of such items, SJI will determine whether protection of the invention or discovery may be sought should the grantee choose to pursue such protection.

g. Lobbying

Funds awarded to recipients by SJI must not be used—directly or indirectly—to influence Executive Orders or similar promulgations by federal, state, or local agencies; or to influence the passage or defeat of any legislation by federal, state, or local legislative bodies (42 U.S.C. 10706(a)).

It is the policy of the SJI Board of Directors to award funds only to support applications submitted by organizations that would carry out the objectives of their applications in an unbiased manner. Consistent with this policy and the provisions of 42 U.S.C. 10706, SJI will not knowingly award a grant to an applicant that has, directly or through an entity that is part of the same organization as the applicant, advocated a position before Congress on the specific subject matter of the application.

h. Matching Requirements

All grant recipients are required to provide a match. A match is the portion of project costs not borne by SJI. A match includes both cash and in-kind contributions. A cash match is the direct outlay of funds by the grantee or a third party to support the project. An in-kind match for state and local courts or other units of government consists of contributions of time and/or services of current staff members, new employees, space, supplies, etc., made to the project by the grantee or others (e.g., advisory board members) working directly on the project. Generally, these same items are considered cash matches for nongovernmental entities. For nongovernmental entities, a federally approved indirect-cost rate may be used as an in-kind match for that portion of the rate that exceeds the limit of permitted charges for indirect costs (75 percent of salaries and benefits).

Under normal circumstances, an allowable match may be incurred only during the project period. The amount and nature of the required match depends on the type of grant. Refer to section V.C.12, Matching Requirements, of this guideline for details by grant type.

The grantee is responsible for ensuring that the total amount of the match proposed is contributed. If a proposed contribution is not fully met, SJI may reduce the award amount accordingly to maintain the ratio originally provided for in the award agreement. The match should be expended at the same rate as SJI funding.

The SJI Board of Directors looks favorably upon any unrequired match contributed by applicants when making grant decisions. The match requirement may be waived in exceptionally rare circumstances upon the request of the chief justice of the highest court in the state or the highest-ranking official in the requesting organization, and approval by the SJI Board of Directors (42 U.S.C. 10705(d)). The SJI Board of Directors encourages all applicants to provide the maximum amount of cash and in-kind match possible, even if a waiver is approved. The amount and nature of the match are criteria in the grant selection process.

Other federal department and agency funding may not be used for a cash match.

i. Nondiscrimination

No person may, on the basis of race, sex, national origin, disability, color, or creed, be excluded from participation in, denied the benefits of, or otherwise subjected to discrimination under any program or activity supported by SJI funds. Recipients of SJI funds must take any measures necessary to effectuate this provision immediately.

j. Political Activities

No recipient may contribute or make available SJI funds, program personnel, or equipment to any political party or association or the campaign of any candidate for public or party office. Recipients are also prohibited from using funds in advocating or opposing any ballot measure, initiative, or referendum. Officers and employees of recipients must not intentionally identify SJI or recipients with any partisan or nonpartisan political activity associated with a political party or association or the campaign of any candidate for public or party office (42 U.S.C. 10706(a)).

k. Products

1. Acknowledgment, Logo, and Disclaimer. Recipients of SJI funds must acknowledge prominently on all products that were developed with grant funds that support was received from SJI. The SJI logo must appear on the front cover of a written product, or in the opening frames of a multimedia product, unless another placement is approved in writing by SJI. This includes final products printed or otherwise reproduced during the grant period as well as reprintings or reproductions of those materials following the end of the grant period. The SJI logo can be downloaded from SJI's website (https://www.sji.gov) at the bottom of the “Grants” page.

Recipients also must display the following disclaimer on all grant products: “This [document, film, videotape, etc.] was developed under [grant/cooperative agreement] number SJI-[insert number] from the State Justice Institute. The points of view expressed are those of the [author(s), filmmaker(s), etc.] and do not necessarily represent the official position or policies of the State Justice Institute.”

i. Project Grants. In addition to other required grant products and reports, recipients must provide a one-page executive summary of the project. The summary should include a background on the project, the tasks undertaken, and the outcome. In addition, the summary should provide the performance metrics that were used during the project, and how performance will be measured in the future.

ii. TA Grants. Grantees must submit a final report that explains how they intend to act on the consultant's recommendations as well as a copy of the consultant's written report. Both should be submitted in electronic format.

iii. CAT Grants. Grantees must submit an electronic version of the agenda or schedule, an outline of presentations and/or relevant instructor's notes; copies of overhead transparencies, Microsoft PowerPoint presentations, or other visual aids; exercises, case studies, and other background materials; hypotheticals, quizzes, and other materials involving the participants; manuals, handbooks, conference packets, and evaluation forms; and suggestions for replicating the program, including possible faculty or the preferred qualifications or experience of those selected as faculty, developed under the grant after the grant period, along with a final report that includes any evaluation results and explains how the grantee intends to present the educational program in the future, as well as the consultant's or trainer's report. All items should be submitted in electronic format.

2. Charges for Grant-Related Products/Recovery of Costs. SJI's mission is to support improvements in the quality of justice and foster innovative, efficient solutions to common issues faced by all courts. SJI has recognized and established procedures for supporting research and development of grant products (e.g., a report, curriculum, video, software, database, or website) through competitive grant awards based on the merit reviews of proposed projects. To ensure that all grants benefit the entire court community, projects SJI considers worthy of support (in whole or in part) are required to be disseminated widely and to be available for public consumption. This includes open-source software and interfaces. Costs for development, production, and dissemination are allowable as direct costs to SJI.

Applicants must disclose their intent to sell grant-related products in the application. Grantees must obtain SJI's prior written approval of their plans to recover project costs through the sale of grant products. Written requests to recover costs ordinarily should be received during the grant period and should specify the nature and extent of the costs to be recouped, the reason that such costs were not budgeted (if the rationale was not disclosed in the approved application), the number of copies to be sold, the intended audience for the products to be sold, and the proposed sale price. If the product is to be sold for more than $25, the written request should also include a detailed itemization of costs that will be recovered and a certification that the costs were not supported by either SJI grant funds or grantee matching contributions.

In the event that the sale of grant products results in revenues that exceed the costs to develop, produce, and disseminate the product, the revenue must continue to be used for the authorized purposes of the SJI-funded project or other purposes consistent with the State Justice Institute Act that have been approved by SJI.

l. Copyrights

Except as otherwise provided in the terms and conditions of an SJI award, a recipient is free to copyright any books, publications, or other copyrightable materials developed in the course of an SJI-supported project. SJI must reserve a royalty-free, nonexclusive, and irrevocable right to reproduce, publish, or otherwise use, and to authorize others to use, the materials for purposes consistent with the State Justice Institute Act.

m. Due Date

All products and, for TA and CAT grants, consultant and/or trainer reports are to be completed and distributed not later than the end of the award period, not the 90-day closeout period. The 90-day closeout period is intended only for grantee final reporting and to liquidate obligations.

n. Distribution

In addition to the distribution specified in the grant application, grantees must send an electronic version of all products in HTML or PDF format to SJI.

o. Original Material

All products prepared as the result of SJI-supported projects must be originally developed material unless otherwise specified in the award documents. Material not originally developed that is included in such products must be properly identified, whether the material is in a verbatim or extensive paraphrase format.

p. Prohibition Against Litigation Support

No funds made available by SJI may be used directly or indirectly to support legal assistance for parties in litigation, including cases involving capital punishment.

q. Reporting Requirements

All reports must be submitted via the SJI GMS as detailed below:

1. Quarterly Progress and Financial Status Reports. Recipients of SJI funds must submit Quarterly Progress and Financial Status Reports within 30 days after the close of each calendar quarter (i.e., no later than January 30, April 30, July 30, and October 30). The Quarterly Progress Reports must include a narrative description of project activities during the calendar quarter; the relationship between those activities, the task schedule, and objectives set forth in the approved application or an approved adjustment thereto; any significant problem areas that have developed and how they will be resolved; and the activities scheduled during the next reporting period. Failure to comply with the requirements of this provision could result in the termination of a grantee's award.

2. Quarterly Financial Reporting. The Quarterly Financial Report must be submitted in accordance with section VII.A.2, Financial Reporting, of this guideline. A Final Progress Report and Financial Status Report must be submitted within 90 days after the end of the grant period.

r. Research

1. Availability of Research Data for Secondary Analysis. Upon request, grantees must make available for secondary analysis backup files containing research and evaluation data collected under an SJI grant and the accompanying code manual. Grantees may recover the actual cost of duplicating and mailing, or otherwise transmitting, the dataset and manual from the person or organization requesting the data. Grantees may provide the requested dataset in the format in which it was created and analyzed.

2. Confidentiality of Information. Except as provided by federal law other than the State Justice Institute Act, no recipient of financial assistance from SJI may use or reveal any research or statistical information furnished under the Act by any person and identifiable to any specific private person for any purpose other than the purpose for which the information was obtained. Such information and copies thereof will be immune from legal process and must not, without the consent of the person furnishing such information, be admitted as evidence or used for any purpose in any action; suit; or other judicial, legislative, or administrative proceedings.

3. Human Subject Protection. Human subjects are defined as individuals who are participants in an experimental procedure or who are asked to provide information about themselves, their attitudes, feelings, opinions, and/or experiences through an interview, questionnaire, or other data collection technique. All research involving human subjects must be conducted with the informed consent of those subjects and in a manner that will ensure their privacy and freedom from risk or harm and the protection of persons who are not subjects of the research but would be affected by it—unless such procedures and safeguards would make the research impractical. In such instances, SJI must approve procedures designed by the grantee to provide human subjects with relevant information about the research after their involvement and minimize or eliminate risk or harm to those subjects due to their participation.

4. Prohibited Uses of SJI Funds. To ensure SJI funds are used to supplement and improve the operation of state courts, rather than to support basic court services, SJI funds must not be used for the following purposes:

• To supplant state or local funds supporting a program or activity (e.g., paying the salary of court employees who would be performing their normal duties as part of the project or paying rent for space which is part of the court's normal operations).

• To construct court facilities or structures.

• Solely to purchase equipment.

Examples of basic court services include:

• Hiring of personnel

• Purchase and/or maintenance of equipment

• Purchase of software and/or licenses

• Purchase of internet access or service

• Supplies to support the day-to-day operations of courts

The final determination of what constitutes basic court services is made by SJI and is not negotiable.

Meals and refreshments are not allowable.

Trinkets (e.g., hats, mugs, portfolios, t-shirts, coins, gift bags, gift cards, etc.) may not be purchased with SJI grant funding.

5. Suspension or Termination of Funding. After providing a recipient reasonable notice and opportunity to submit written documentation demonstrating why fund termination or suspension should not occur, SJI may terminate or suspend funding of a project that fails to substantially comply with the Act, the Grant Guideline, or the terms and conditions of the award (42 U.S.C. 10708(a)).

6. Title to Property. At the conclusion of the project, title to all expendable and nonexpendable personal property purchased with SJI funds must vest in the recipient court, organization, or individual that purchased the property if certification is made to and approved by SJI that the property will continue to be used for the authorized purposes of the SJI-funded project or other purposes consistent with the State Justice Institute Act. If such certification is not made or SJI disapproves of such certification, title to all such property with an aggregate or individual value of $1,000 or more must vest in SJI, which will direct the disposition of the property.

IX. Financial Requirements

The purpose of this section is to establish accounting system requirements and offer guidance on procedures to assist all grantees, subgrantees, contractors, and other organizations in:

• Complying with the statutory requirements for the award, disbursement, and accounting of funds.

• Complying with regulatory requirements of SJI for the financial management and disposition of funds.

• Generating financial data to be used in planning, managing, and controlling projects.

• Facilitating an effective audit of funded programs and projects.

a. Supervision and Monitoring Responsibilities

All grantees receiving awards from SJI are responsible for the management and fiscal control of all funds. Responsibilities include accounting for receipts and expenditures, maintaining adequate financial records, and refunding expenditures disallowed by audits. If the project includes subawards, the grantees' responsibilities also include:

1. Reviewing Financial Operations. The grantee or its designee must be familiar with, and periodically monitor, its subgrantee's financial operations, records system, and procedures. Particular attention should be directed to the maintenance of current financial data.

2. Recording Financial Activities. The subgrantee's grant award or contract obligation as well as cash advances and other financial activities must be recorded in the financial records of the grantee or its designee in summary form. Subgrantee expenditures must be recorded on the books of the state supreme court or evidenced by report forms duly filed by the subgrantee. Matching contributions provided by subgrantees must likewise be recorded, as should any project income resulting from program operations.

3. Budgeting and Budget Review. The grantee or its designee must ensure that each subgrantee prepares an adequate budget as the basis for its award commitment. The state supreme court must maintain the details of each project budget on file.

4. Accounting for Match. The grantee or its designee will ensure that subgrantees comply with the match requirements specified in this guideline.

5. Audit Requirement. The grantee or its designee is required to ensure that subgrantees meet the necessary audit requirements set forth by SJI.

6. Reporting Irregularities. The grantee, its designees, and its subgrantees are responsible for promptly reporting to SJI the nature and circumstances surrounding any financial irregularities discovered.

b. Accounting System

The grantee is responsible for establishing and maintaining an adequate system of accounting and internal controls and for ensuring that an adequate system exists for each of its subgrantees and contractors. An acceptable and adequate accounting system:

• Properly accounts for receipt of funds under each grant awarded and the expenditure of funds for each grant by category of expenditure, including matching contributions and project income.

• Assures that expended funds are applied to the appropriate budget category included within the approved grant.

• Presents and classifies historical costs of the grant as required for budgetary and evaluation purposes.

• Provides cost and property controls to assure optimal use of grant funds.

• Is integrated with a system of internal controls adequate to safeguard the funds and assets covered, check the accuracy and reliability of the accounting data, promote operational efficiency, and assure conformance with any general or special conditions of the grant.

• Meets the prescribed requirements for periodic financial reporting of operations.

• Provides financial data for planning, control, measurement, and evaluation of direct and indirect costs.

c. Total Cost Budgeting and Accounting

Accounting for all funds awarded by SJI must be structured and executed on a total-project-cost basis. That is, total project costs, including SJI funds, state and local matching shares, and any other fund sources included in the approved project budget, serve as the foundation for fiscal administration and accounting. Grant applications and financial reports require budget and cost estimates based on total costs.

1. Timing of Matching Contributions. Matching contributions should be applied at the same time as the obligation of SJI funds. Ordinarily, the full matching share must be obligated during the award period; however, with the written permission of SJI, contributions made following approval of the grant by the SJI Board of Directors but before the beginning of the grant may be counted as a match. If a proposed cash or in-kind match is not fully met, SJI may reduce the award amount accordingly to maintain the ratio of grant funds to matching funds stated in the award agreement.

2. Records for Match. All grantees must maintain records that clearly show the source, amount, and timing of all matching contributions. In addition, if a project has included, within its approved budget, contributions that exceed the required matching portion, the grantee must maintain records of those contributions in the same manner as it does SJI funds and required matching shares. For all grants made to state and local courts, the state supreme court has primary responsibility for grantee/subgrantee compliance with the requirements of this section.

3. Maintenance and Retention of Records. All financial records—including supporting documents; statistical records; and all other information pertinent to grants, subgrants, cooperative agreements, or contracts under grants—must be retained by each organization participating in a project for at least 3 years for purposes of examination and audit. State supreme courts may impose record retention and maintenance requirements in addition to those prescribed in this section.

4. Coverage. The retention requirement extends to books of original entry, source documents supporting accounting transactions, the general ledger, subsidiary ledgers, personnel and payroll records, canceled checks, and related documents and records. Source documents include copies of all grant and subgrant awards, applications, and required grantee/subgrantee financial and narrative reports. Personnel and payroll records must include the time and attendance reports for all individuals reimbursed under a grant, subgrant, or contract, whether they are employed full or part time. Time and effort reports are required for consultants.

5. Retention Period. The 3-year retention period starts from the date of the submission of the final expenditure report.

6. Maintenance. Grantees and subgrantees are expected to see that records of different fiscal years are separately identified and maintained so that requested information can be readily located. Grantees and subgrantees are also obligated to protect records adequately against fire or other damage. When records are stored away from the grantee's or subgrantee's principal office, a written index of the location of stored records should be on hand, and ready access should be assured.

7. Access. Grantees and subgrantees must give any authorized representative of SJI access to and the right to examine all records, books, papers, and documents related to an SJI grant.

8. Project-Related Income. Records of the receipt and disposition of project-related income must be maintained by the grantee in the same manner as required for the project funds that gave rise to the income and must be reported to SJI (see section VII.A.2, Financial Reporting, of this guideline). The policies governing the disposition of the various types of project-related income are listed below.

i. Interest. A state and any agency or instrumentality of a state, including institutions of higher education and hospitals, will not be held accountable for interest earned on advances of project funds. When funds are awarded to subgrantees through a state, the subgrantees are not held accountable for interest earned on advances of project funds. Local units of government and nonprofit organizations that are grantees must refund any interest earned. Grantees must ensure minimum balances in their respective grant cash accounts.

ii. Royalties. The grantee or subgrantee may retain all royalties received from copyrights or other works developed under projects or from patents and inventions unless the terms and conditions of the grant provide otherwise.

iii. Registration and Tuition Fees. Registration and tuition fees may be considered as a cash match with prior written approval from SJI. Estimates of registration and tuition fees and any expenses to be offset by the fees should be included in the application budget forms and narrative.

iv. Income from the Sale of Grant Products. If the sale of products occurs during the project period, the income may be treated as a cash match with the prior written approval of SJI. The costs and income generated by the sales must be reported on the Quarterly Progress and Financial Status Reports and documented in an auditable manner. Whenever possible, the intent to sell a product should be disclosed in the application or reported to SJI in writing once a decision to sell products has been made. The grantee must request approval to recover its product development, reproduction, and dissemination costs (see section VIII.K.2, Charges for Grant-Related Products/Recovery of Costs, of this guideline).

v. Other. Other project income will be treated in accordance with disposition instructions set forth in the grant's terms and conditions.

d. Payments and Financial Reporting Requirements

The procedures and regulations set forth below are applicable to all SJI grant funds and grantees.

1. Request for Reimbursement of Funds. Grantees will receive funds on a reimbursable, U.S. Department of the Treasury check-issued or EFT basis. Upon receipt, review, and approval of a Request for Reimbursement (Form R) by SJI, payment will be issued directly to the grantee or its designated fiscal agent. The Form R, along with the instructions for its preparation and the SF 3881 Automated Clearing House (ACH/Miscellaneous Payment Enrollment Form for EFT), are available for download and submission in the SJI GMS.

2. Financial Reporting

i. General Requirements. To obtain financial information concerning the use of funds, SJI requires that grantees/subgrantees submit timely reports for review.

ii. Due Dates and Contents. A Financial Status Report is required from all grantees for each active quarter on a calendar-quarter basis. This report is due within 30 days after the close of the calendar quarter. It is designed to provide financial information relating to SJI funds, state and local matching shares, project income, and any other sources of funds for the project, as well as information on obligations and outlays. The Financial Status Report (Form F), along with instructions, is accessible in the SJI GMS. If a grantee requests substantial payment for a project prior to the completion of a given quarter, SJI may request a brief summary of the amount requested, by object class, to support the Request for Reimbursement.

iii. Consequences of Noncompliance with Submission Requirement. Failure of the grantee to submit required Progress and Financial Status Reports may result in suspension or termination of grant reimbursement.

e. Allowability of Costs

1. Costs Requiring Prior Approval

i. Pre-Agreement Costs. The written prior approval of SJI is required for costs that are considered necessary but that occur prior to the start date of the project period.

ii. Equipment. Grant funds may be used to purchase or lease only that equipment essential to accomplishing the goals and objectives of the project. The written prior approval of SJI is required when: (1) the amount of automated data processing equipment to be purchased or leased exceeds $10,000; or (2) the amount of software to be purchased exceeds $3,000.

iii. Consultants. The written prior approval of SJI is required when the rate of compensation to be paid to a consultant exceeds $800 a day. SJI funds may not be used to pay a consultant more than $1,100 per day.

iv. Budget Revisions. Prior SJI approval is required for budget revisions among direct-cost categories that: (1) transfer grant funds to an unbudgeted cost category; or (2) individually or cumulatively exceed 5 percent of the approved original budget or the most recently approved revised budget.

2. Travel Costs. Transportation and per diem rates must comply with the policies of the grantee. If the grantee does not have an established written travel policy, then travel rates must be consistent with those established by the U.S. General Services Administration. Grant funds may not be used to cover the transportation or per diem costs for a member of a national organization to attend an annual or other regular meeting, or conference of that organization.

3. Indirect Costs. Indirect costs are only applicable to organizations that are not state courts or government agencies. These are costs of an organization that are not readily assignable to a particular project but are necessary to the operation of the organization and the performance of the project. The costs of operating and maintaining facilities, depreciation, and administrative salaries are examples of the types of costs that are usually treated as indirect costs. Although SJI's policy requires all costs to be budgeted directly, it will accept indirect costs if a grantee has an indirect-cost rate approved by a federal agency; however, recoverable indirect costs are limited to no more than 75 percent of a grantee's direct personnel costs (salaries plus fringe benefits).

i. Approved Plan Available.

• A copy of an indirect-cost-rate agreement or allocation plan approved for a grantee during the preceding 2 years by any federal granting agency on the basis of allocation methods substantially in accord with those set forth in the applicable cost circulars must be submitted to SJI.

• Where flat rates are accepted in lieu of actual, indirect costs, grantees may not also charge expenses normally included in overhead pools (e.g., accounting services, legal services, building occupancy and maintenance, etc.) as direct costs.

f. Audit Requirements

1. Implementation. Grantees must provide for an annual fiscal audit. This requirement also applies to a state or local court receiving a subgrant from the state supreme court. Audits conducted using generally accepted auditing standards in the United States will satisfy the requirement for an annual fiscal audit. The audit must be conducted by an independent Certified Public Accountant or a state or local agency authorized to audit government agencies. The audit report must be made available to SJI electronically, if requested.

2. Resolution and Clearance of Audit Reports. Timely action on recommendations by responsible management officials is an integral part of the effectiveness of an audit. Each grantee must have policies and procedures for acting on audit recommendations by designating officials responsible for:

• Following up.

• Maintaining a record of the actions taken on recommendations and time schedules.

• Responding to and acting on audit recommendations.

• Submitting periodic reports to SJI on recommendations and actions taken.

3. Consequences of Non-Resolution of Audit Issues. Ordinarily, SJI will not make a subsequent grant award to an applicant that has an unresolved audit report involving SJI awards. Failure of the grantee to resolve audit questions may also result in the suspension or termination of payments for active SJI grants to that organization.

g. Closeout of Grants

1. Grantee Closeout Requirements. Within 90 days of the end date of the grant or any approved extension thereof, the following documents must be submitted to SJI by grantees:

i. Financial Status Report. The final report of expenditures must have no unliquidated obligations and must indicate the exact balance of unobligated funds. Any unobligated or unexpended funds will be de-obligated from the award by SJI. Final payment requests for obligations incurred during the award period must be submitted to SJI prior to the end of the 90-day closeout period.

ii. Final Progress Report. This report should describe the project activities during the final calendar quarter of the project and the closeout period, including to whom project products have been disseminated; provide a summary of activities during the entire project; specify whether all the objectives set forth in the approved application or an approved adjustment have been met and, if any of the objectives have not been met, explain why not; and discuss what, if anything, could have been done differently that might have enhanced the impact of the project or improved its operation. These reporting requirements apply at the conclusion of every grant.

2. Extension of Closeout Period. Upon the written request of the grantee, SJI may extend the closeout period to assure completion of the grantee's closeout requirements. Requests for an extension must be submitted at least 14 days before the end of the closeout period and must explain why the extension is necessary and what steps will be taken to assure that all the grantee's responsibilities will be met by the end of the extension period. Extensions must be submitted via the SJI GMS as Grant Adjustments.

X. Grant Adjustments

All requests for programmatic or budgetary adjustments requiring SJI approval must be submitted by the project director in a timely manner (ordinarily 30 days prior to the implementation of the adjustment being requested). All requests for changes from the approved application will be carefully reviewed for both consistency with this guideline and the enhancement of grant goals and objectives. Failure to submit adjustments in a timely manner may result in the termination of a grantee's award.

a. Grant Adjustments Requiring Prior Written Approval

The following Grant Adjustments require the prior written approval of SJI:

• Budget revisions among direct-cost categories that: (1) transfer grant funds to an unbudgeted cost category; or (2) individually or cumulatively exceed 5 percent of the approved original budget or the most recently approved revised budget.

• A change in the scope of work to be performed or the objectives of the project.

• A change in the project site.

• A change in the project period, such as an extension of the grant period or extension of the Final Financial Report or Final Progress Report deadline.

• Satisfaction of special conditions, if required.

• A change in or temporary absence of the project director.

• The assignment of an employee or consultant to a key staff position whose qualifications were not described in the application, or a change in a person assigned to a key project staff position.

• A change in or temporary absence of the person responsible for managing and reporting on the grant's finances.

• A change in the name of the grantee organization.

• A transfer or contracting out of grant-supported activities.

• A transfer of the grant to another recipient.

• Pre-agreement costs.

• The purchase of Americans with Disabilities Act (ADA) equipment and software.

• Consultant rates.

• A change in the nature or number of the products to be prepared or the way a product would be distributed.

b. Requests for Grant Adjustments

All grantees must promptly notify SJI, in writing, of events or proposed changes that may require adjustments to the approved project design. In requesting an adjustment, the grantee must set forth the reasons and basis for the proposed adjustment and any other information the program manager determines would help SJI's review. All requests for Grant Adjustments must be submitted via the SJI GMS.

c. Notification of Approval or Disapproval

If the request is approved, the grantee will be sent a Grant Adjustment signed by the SJI Executive Director. If the request is denied, the grantee will be sent a written explanation of the reasons for the denial.

d. Changes in the Scope of the Grant

Major changes in scope, duration, training methodology, or other significant areas must be approved in advance by SJI. A grantee may make minor changes to methodology, approach, or other aspects of the grant to expedite achievement of the grant's objectives with subsequent notification to SJI.

e. Date Changes

A request to change or extend the grant period must be made at least 30 days in advance of the end date of the grant. A revised task plan must accompany a request for an extension of the grant period, along with a revised budget if shifts among budget categories will be needed. A request to change or extend the deadline for the Final Financial Report or Final Progress Report must be made at least 14 days in advance of the report deadline.

f. Temporary Absence of the Project Director

Whenever an absence of the project director is expected to exceed a continuous period of 1 month, the plans for the conduct of the project director's duties during such absence must be approved in advance by SJI. This information must be provided in a letter signed by an authorized representative of the grantee or subgrantee at least 30 days before the departure of the project director or as soon as it is known that the project director will be absent. The grant may be terminated if arrangements are not approved in advance by SJI.

g. Withdrawal of or Change in Project Director

If the project director relinquishes or expects to relinquish active direction of the project, SJI must be notified immediately. In such cases, if the grantee or subgrantee wishes to terminate the project, SJI will forward procedural instructions upon notification of such intent. If the grantee wishes to continue the project under the direction of another individual, a statement of the candidate's qualifications should be sent to SJI for review and approval. The grant may be terminated if the qualifications of the proposed individual are not approved in advance by SJI.

h. Transferring or Contracting Out of Grant-Supported Activities

No principal activity of a grant-supported project may be transferred or contracted out to another organization without specific prior approval by SJI. All such arrangements must be formalized in a contract or other written agreement between the parties involved. Copies of the proposed contract or agreement must be submitted for prior approval to SJI at the earliest possible time. The contract or agreement must state, at a minimum, the activities to be performed, the time schedule, the policies and procedures to be followed, the dollar limitation of the agreement, and the cost principles to be followed in determining what costs, both direct and indirect, will be allowed. The contract or other written agreement must not affect the grantee's overall responsibility for the direction of the project and accountability to SJI.

State Justice Institute Board of Directors

Hon. John Minton (Chair), Chief Justice, Supreme Court of Kentucky, Frankfort, KY

Daniel Becker (Vice Chair), State Court Administrator (ret.), Utah Administrative Office of the Courts, Salt Lake City, UT

Hon. Gayle A. Nachtigal (Secretary), Circuit Court Judge (ret.), Washington County Circuit Court, Hillsboro, OR

Hon. David Brewer (Treasurer), Justice (ret.), Supreme Court of Oregon, Salem, OR

Hon. Jonathan Lippman, Chief Judge of the State of New York (ret.); Of Counsel, Latham & Watkins, LLP, New York, NY

Hon. Chase Rogers, Chief Justice (ret.), Supreme Court of Connecticut; Partner, Day Pitney, LLP, Hartford, CT

Hon. Wilfredo Martinez, Senior Judge, Ninth Judicial Circuit of Florida, Orlando, FL

Marsha J. Rabiteau, President & CEO, Center for Human Trafficking Court Solutions, Bloomfield, CT

Jonathan D. Mattiello, Executive Director (ex officio)

Jonathan D. Mattiello,
Executive Director.

[FR Doc. 2025-19664 Filed 10-24-25; 8:45 am]

BILLING CODE 6820-SC-P